DEPARTMENT OF AGRICULTURE

Forest Service

Proposed Recreation Fee Site

AGENCY: Forest Service, USDA.

ACTION: Notice.

SUMMARY: The Inyo National Forest is proposing to establish a recreation fee site. Proposed recreation fees collected at the proposed recreation fee sites would be used for operation, maintenance, and improvement of the sites. An analysis of nearby recreation fee sites with similar amenities shows the proposed recreation fees that would be charged at the new recreation fee sites are reasonable and typical of similar recreation fee sites in the area.

DATES: If approved, the proposed recreation fees would be established no earlier than six months following the publication of this notice in the Federal Register.

ADDRESSES: Inyo National Forest, Attention: Recreation Fees, 351 Pacu Lane, Suite 200, Bishop, CA 93514.

FOR FURTHER INFORMATION CONTACT: Andrew Kennedy, Forest Recreation Officer, (760) 920-3522, andrew.kennedy@usda.gov.

SUPPLEMENTARY INFORMATION: The Federal Lands Recreation Enhancement Act (16 U.S.C. 6803(b)) requires the Forest Service to publish a six-month advance notice in the Federal Register of establishment of proposed recreation fee sites. In accordance with Forest Service Handbook 2309.13, Chapter 30, the Forest Service will publish the proposed recreation fee sites and proposed recreation fees in local newspapers and other local publications for public comment. Most of the proposed recreation fees would be spent where they are collected to enhance the visitor experience at the proposed recreation fee sites.

A special recreation permit recreation fee of $20 per permit is proposed for the Inyo National Forest Christmas Tree Permits. The 4th Grade Pass would be honored for a free permit.

Expenditures of recreation fees collected at the proposed recreation fee sites would enhance recreation opportunities, improve customer service, and address maintenance needs. Once public involvement is complete, the proposed recreation fee sites and proposal recreation fees will be reviewed by a Recreation Resource Advisory Committee prior to a final decision and implementation.

Dated: May 6, 2024.
Jacqueline Emanuel,
Associate Deputy Chief, National Forest System.

[FR Doc. 2024-10246 Filed 5-9-24; 8:45 am]

BILLING CODE 3411-15-P